ENVIRONMENTAL PROTECTION AGENCY

40 CFR Part 52

[EPA-R03-OAR-2016-0308; FRL-9956-26-Region 3]

Approval and Promulgation of Air Quality Implementation Plans; Virginia; Removal of Stage II Gasoline Vapor Recovery Requirements for Gasoline Dispensing Facilities; Withdrawal of Direct Final Rule

AGENCY: Environmental Protection Agency (EPA).

ACTION: Withdrawal of direct final rule.

SUMMARY: Due to the receipt of adverse public comments, the Environmental Protection Agency (EPA) is withdrawing the direct final rule published on October 21, 2016, to approve revisions to the Virginia state implementation plan (SIP). The revision serves to remove requirements for installation and operation of vapor recovery equipment (also referred to as Stage II vapor recovery) from subject gasoline stations in areas of Virginia that were formally subject to a Stage II vapor recovery program under the Clean Air Act.

DATES: The direct final rule published at 81 FR 72724 on October 21, 2016, is withdrawn effective December 9, 2016.

FOR FURTHER INFORMATION CONTACT: Brian Rehn, (215) 814-2176, or by email at rehn.brian@epa.gov.

SUPPLEMENTARY INFORMATION: In the direct final rule published on October 21, 2016 (81 FR 72724), we stated that if we received comment by November 21, 2016, the rule would be withdrawn and not take effect. EPA received comments before the November 21, 2016 deadline. EPA will address the comment received in a subsequent final action based upon the proposed action also published on October 21, 2016 (81 FR 72757). EPA will not institute a second comment period on this action.

List of Subjects in 40 CFR Part 52

Environmental protection, Air pollution control, Incorporation by reference, Intergovernmental relations, Ozone, Reporting and recordkeeping requirements, Volatile organic compounds.

Dated: November 28, 2016.
Shawn M. Garvin,
Regional Administrator, Region III.

Accordingly, the direct final rule which published in the Federal Register on October 21, 2016, at 81 FR 72724 is withdrawn as of December 9, 2016.

[FR Doc. 2016-29586 Filed 12-8-16; 8:45 am]

BILLING CODE 6560-50-P